DEPARTMENT OF ENERGY

Federal Energy Regulatory Commission

Combined Notice of Filings #1

Take notice that the Commission received the following electric rate filings:

Docket Numbers: ER10-2977-007.

Applicants: Mesquite Power, LLC.

Description: Notice of Non-Material Change in Status of Mesquite Power, LLC.

Filed Date: 8/7/18.

Accession Number: 20180807-5151.

Comments Due: 5 p.m. ET 8/28/18.

Docket Numbers: ER18-2182-000.

Applicants: Minco IV & V Interconnection, LLC.

Description: Baseline eTariff Filing: Minco IV & V Interconnection, LLC Application for Market-Based Rates to be effective 10/6/2018.

Filed Date: 8/7/18.

Accession Number: 20180807-5141.

Comments Due: 5 p.m. ET 8/28/18.

Docket Numbers: ER18-2183-000.

Applicants: Tucson Electric Power Company.

Description: § 205(d) Rate Filing: Amendment to Gila River Ownership Agreement to be effective 5/31/2018.

Filed Date: 8/8/18.

Accession Number: 20180808-5002.

Comments Due: 5 p.m. ET 8/29/18.

Docket Numbers: ER18-2184-000.

Applicants: Mid-Atlantic Interstate Transmission, LLC, PJM Interconnection, L.L.C.

Description: § 205(d) Rate Filing: MAIT submits three ECSAs, Service Agreement Nos. 5011, 5029 and 5117 to be effective 10/8/2018.

Filed Date: 8/8/18.

Accession Number: 20180808-5023.

Comments Due: 5 p.m. ET 8/29/18.

Docket Numbers: ER18-2185-000.

Applicants: Alabama Power Company.

Description: § 205(d) Rate Filing: Pike Road Farm LGIA Filing to be effective 7/25/2018.

Filed Date: 8/8/18.

Accession Number: 20180808-5056.

Comments Due: 5 p.m. ET 8/29/18.

Docket Numbers: ER18-2186-000.

Applicants: PJM Interconnection, L.L.C.

Description: § 205(d) Rate Filing: Original Interim ISA, SA No. 5151; Queue No. AB2-134 to be effective 7/23/2018.

Filed Date: 8/8/18.

Accession Number: 20180808-5083.

Comments Due: 5 p.m. ET 8/29/18.

Docket Numbers: ER18-2187-000.

Applicants: Public Service Company of Colorado.

Description: Compliance filing: 20180808_Joint Dispatch Agreement Notice of Succession of Black Hills COE to be effective N/A.

Filed Date: 8/8/18.

Accession Number: 20180808-5110.

Comments Due: 5 p.m. ET 8/29/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 8, 2018.
Nathaniel J. Davis, Sr.,
Deputy Secretary.

[FR Doc. 2018-17505 Filed 8-14-18; 8:45 am]

BILLING CODE 6717-01-P